DEPARTMENT OF HEALTH AND HUMAN SERVICES

Administration for Children and Families

Proposed Information Collection Activity; Evaluation of the Family Unification Program—Extension (OMB #0970-0514)

AGENCY: Office of Planning, Research, and Evaluation, Administration for Children and Families, HHS.

ACTION: Request for public comment.

SUMMARY: The Administration for Children and Families (ACF) at the U.S. Department of Health and Human Services (HHS) requests an extension to continue data collection for the Evaluation of the Family Unification Program (FUP) (OMB #0970-0514). Information collection activities requested include interviews, focus group discussions, program data, and administrative data collection.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The ACF, Office of Planning, Research, and Evaluation (OPRE) requests public comment on a proposed extension to a currently approved information collection for the Evaluation of FUP. The approved instruments, supporting statements, and attachments are available at https://www.reginfo.gov/public/do/PRAViewICR?ref_nbr=202009-0970-004. No changes are proposed.

Activities include site visits to each program to speak with program leaders, partners and key stakeholders, front-line staff, and participants as well as program and administrative data collection. The evaluation will contribute to understanding the effects of FUP on project participants' child welfare involvement. This evaluation is part of a larger project to help ACF build the evidence base in child welfare through rigorous evaluation of programs, practices, and policies. The Department of Housing and Urban Development (HUD) funds and administers FUP. The study will also contribute to HUD's understanding of how housing can serve as a platform for improving quality of life.

Respondents: Public housing authority staff, public child welfare agency staff, other services provider staff, and child welfare-involved families.

Annual Burden Estimates
Instrument | Number of respondents (total over request period) | Number of responses per respondent (total over request period) | Avg. burden per response (in hours) | Total burden (in hours) | Annual burden (in hours)
Guide for Implementation Study for PCWA Management | 2 | 1 | 1.00 | 2.00 | 1
Guide for Implementation Study for PHA Management | 2 | 1 | 1.00 | 2.00 | 1
Guide for Implementation Study for CoC Management | 2 | 1 | 1.00 | 2.00 | 1
Guide for Implementation Study for Referral Provider Administrators | 2 | 1 | 1.00 | 2.00 | 1
Guide for Implementation Study with PCWA FUP Management (Second) | 2 | 1 | 1.00 | 2.00 | 1
Guide for Implementation Study for PHA FUP Management | 2 | 1 | 1.00 | 2.00 | 1
Guide for Implementation Study Focus Groups with PHA Frontline Workers | 6 | 1 | 1.50 | 9.00 | 3
Guide for Implementation Study for Parents (Second, Third) | 72 | 1 | 1.50 | 108 | 36
Guide for Implementation Study Focus Groups with Frontline Workers | 180 | 1 | 1.50 | 270 | 90
Guide for Implementation Study for PCWA FUP Management (Third) | 6 | 1 | 1.00 | 6.00 | 2
Guide for Implementation Study for Service Provider Management | 5 | 1 | 1.00 | 5.00 | 2
Housing Status Form | 185 | 31 | 0.04 | 230 | 77
Referral Form | 60 | 10 | 0.17 | 102 | 34
Randomization Tool | 3 | 200 | 0.02 | 12 | 4
Housing Assistance Questionnaire | 120 | 3 | 0.09 | 33 | 11
Ongoing Services Questionnaire | 120 | 3 | 0.09 | 33 | 11
Dashboard | 12 | 27 | 0.17 | 56 | 19
Administrative Data List | 18 | 2 | 5.00 | 180 | 60

Estimated Total Annual Burden Hours: 355.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 676.

Mary B. Jones,
ACF/OPRE Certifying Officer.

[FR Doc. 2021-12074 Filed 6-8-21; 8:45 am]

BILLING CODE 4184-25-P